FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants:

King Con Freight Management LLC, 9303 Granby Street, Norfolk, VA 23503, Officer: Conrad Mendoza, Owner, (Qualifying Individual).

Dynasty International Forwarding, Inc., dba Dynasty Logistics, 1601 Brummel Avenue, Elk Grove Village, IL 60007, Officers: Phillip A. Klaesges, President, (Qualifying Individual), Stanney Tak Hao Huang, Secretary.

Lee's International, 907 Somerset Place, Hyattsville, MD 20783, George L. Sealy, Sole Proprietor.

Wonderland International Inc., 98-12 218th Street, #5A, Jamaica, NY 11429, Officer: Li He, President, (Qualifying Individual).

Morales Mayo Enterprises Inc. dba Onyx Freight Forwarding, 2121 NW., 79th Avenue, Doral, FL 33122, Officers: Maria M. Ashby, President, (Qualifying Individual), Patricia Quintana, Vice President.

Non-Vessel-Operating Common Carrier and Ocean Freight Forwarder Transportation Intermediary Applicants:

FEPA Enterprises, Inc. dba FEPA Logistics (USA), 17010 Buffalo Peak Court, Humble, TX 77346, Officers: Fernando Mateu, Vice President, (Qualifying Individual), Mayelin Mateu, President.

Martin Bencher USA, LLC, 1121 Bristol Road, Mountainside, NJ 07092, Officer: Morten Olesen, CEO, (Qualifying Individual).

Oceanica Logistics Group, Inc., 8470 NW 70 Street, Miami, FL 33166, Officers: Jean-Paul Diaz, Director, (Qualifying Individual), Miguel Morales, President.

Universal Cargo Express, Inc., 1782 NW., 38 Avenue, Lauderdale Lakes, FL 33311, Officers: Helena Abad, Secretary, (Qualifying Individual), Aminta Lora, President.

Logistics Inc. dba Infinity Freight Services, 8621 Bellanca Avenue, Suite 1048, Los Angeles, CA 90045, Officers: Elizabeth L. Burt, General Manager, (Qualifying Individual), Wendy Wang, President.

New Century Logistics, Inc., 1016 S. California Street, San Gabriel, CA 91776, Officers: Betty Kwok, Secretary, (Qualifying Individual), Philip Kwok, President.

Load Group International, Inc. dba BOSMAS, 8375 NW., 68th Street, Miami, FL 33166, Officers: Hermann Lange, President, (Qualifying Individual), Jorge Medero, Vice President.

Ocean Freight Forwarder—Ocean Transportation Intermediary Applicants: Linkex, Inc., 22301 LBJ Freeway, Suite 400, Dallas, TX 75234, Officers: Neil F. Plunkett, CFO, (Qualifying Individual), Margaret L. Parks, President.

Secure Transportation and Relocation International, Inc. dba Star International Movers, 21598 Atlantic Blvd., Suite 100, Sterling, VA 20166, Officer: James V. Re, President, (Qualifying Individual).

B.F. International Inc., 3080 Northfield Place, Suite 109, Roswell, GA 20076, Officers: Markos Baghdasarian, Manager, (Qualifying Individual), Larisa Baghdasarian, President.

Dated: April 6, 2007.
Bryant L. VanBrakle,
Secretary.

[FR Doc. E7-6855 Filed 4-10-07; 8:45 am]

BILLING CODE 6730-01-P